NUCLEAR REGULATORY COMMISSION

[Docket No. 52-043-ESP; ASLBP No. 15-943-01-ESP-BD01]

Atomic Safety And Licensing Board; Before Administrative Judges: Paul S. Ryerson, Chairman, Dr. Gary S. Arnold, Dr. Craig M. White; In the Matter of PSEG Power, LLC and PSEG Nuclear, LLC (Early Site Permit Application); Notice of Hearing

February 8, 2016.

The Atomic Safety and Licensing Board gives notice that, pursuant to section 189a(1)(A) of the Atomic Energy Act, 42 U.S.C. 2239(a)(1)(A), and 10 CFR 52.21, it will convene an uncontested mandatory hearing on March 24, 2016 to receive testimony and exhibits regarding an application from PSEG Power, LLC and PSEG Nuclear, LLC (collectively PSEG) for a 10 CFR part 52, subpart A Early Site Permit (ESP).¹ In its ESP application, PSEG proposes a site for a potential nuclear power facility adjacent to two existing facilities in Salem County, New Jersey (the PSEG Site).² This mandatory hearing will concern safety and environmental matters relating to the proposed issuance of the requested ESP.³

¹ See 75 FR 68,624, 68,624 (Nov. 8, 2010).

² The existing nuclear power facilities are Salem Generating Station Units 1 and 2 and Hope Creek Generating Station Unit 1. Safety Evaluation of the Early Site Permit Application in the Matter of PSEG Power, LLC and PSEG Nuclear, LLC for the PSEG Early Site Permit Site (Sept. 29, 2015) at 1-1 (ADAMS Accession No. ML14302A447).

³ See Licensing Board Order (Initial Scheduling Order) (Nov. 16, 2015) at Attach. A (unpublished).

I. Hearing Date, Time, and Location

The evidentiary hearing will commence on Thursday, March 24, 2016 at 9:00 a.m. EDT, and, if necessary, will continue day-to-day thereafter until concluded. The evidentiary hearing will take place in the Atomic Safety and Licensing Board Panel's hearing room, located within the Nuclear Regulatory Commission's headquarters at 11555 Rockville Pike, Rockville, Maryland 20852. Members of the public who wish to observe the mandatory hearing are advised to arrive early. Security measures will include searches of handcarried items such as briefcases or backpacks.

II. Limited Appearance Statements

No petition was received in response to the NRC's notice in the Federal Register of an opportunity to seek to intervene.⁴ Participation in the evidentiary hearing will be limited to the designated witnesses and counsel for the parties.

⁴ See 75 FR 68,625.

Prior to the evidentiary hearing, any person (other than a party or the representative of a party to this proceeding) may nonetheless submit a written limited appearance statement pursuant to 10 CFR 2.315(a) that sets forth a position on matters related to this proceeding. Limited appearance statements should be emailed to hearing.docket@nrc.gov. As provided by NRC regulations, however, no limited appearance statement shall be considered as evidence.⁵

⁵ 10 CFR 2.315(a).

III. Document Availability

Documents relating to this proceeding (including any updated or revised scheduling information regarding the evidentiary hearing) are available for public inspection electronically on the NRC's Electronic Hearing Docket (EHD). EHD is accessible from the NRC Web site at https://adams.nrc.gov/ehd. For additional information regarding the EHD please see http://www.nrc.gov/about-nrc/regulatory/adjudicatory.html#ehd. Persons who do not have access to the internet or who encounter problems in accessing the documents located on the NRC's Web site may contact the NRC Public Document Room reference staff by email to pdr@nrc.gov or by telephone at (800) 397-4209 or (301) 415-4737. Reference staff are available Monday through Friday between 8:00 a.m. and 4:00 p.m. ET, except federal holidays. For additional information regarding the NRC Public Document Room please see http://www.nrc.gov/reading-rm/pdr.html.

It is so ordered.

For The Atomic Safety and Licensing Board. Rockville, Maryland.
Dated: February 8, 2016.
Paul S. Ryerson,
Chairman, Administrative Judge.

[FR Doc. 2016-03054 Filed 2-12-16; 8:45 am]

BILLING CODE 7590-01-P